CORPORATION FOR NATIONAL AND COMMUNITY SERVICE

Information Collection; Submission for OMB Review; Comment Request

AGENCY: Corporation for National and Community Service.

ACTION: Notice.

SUMMARY: The Corporation for National and Community Service (hereinafter the “Corporation”) has submitted a public information collection request (ICR) to the Office of Management and Budget (OMB) for review and approval in accordance with the Paperwork Reduction Act of 1995, Public Law 104-13, (44 U.S.C. Chapter 35). Copies of this ICR, with applicable supporting documentation, may be obtained by calling the Corporation for National and Community Service, Marcia Scott, at (202) 606-5000, extension 100. Individuals who use a telecommunications device for the deaf (TTY-TDD) may call (800) 833-3722 between the hours of 9 a.m. and 5 p.m. Eastern Standard Time, Monday through Friday.

Comments should be sent to the Office of Management and Budget (OMB), Office of Information and Regulatory Affairs (OIRA), Attn: Ms. Brenda Aguilar, OMB Desk Officer for the Corporation for National and Community Service, Records Management Center, Room 10102, 725 17th Street, NW., Washington, DC 20503, (202) 395-6929, within 30 days from the date of publication in this Federal Register. Due to security measures at OMB, comments sent by mail may be delayed and might not reach Ms. Aguilar within the comment period. Therefore, comments may be faxed to Ms. Aguilar at (202) 395-6974, or sent to her by e-mail at Brenda—Aguilar@omb.eop.gov.

The OMB is particularly interested in comments which:

• Evaluate whether the proposed collection of information is necessary for the proper performance of the functions of the Corporation, including whether the information will have practical utility;

• Evaluate the accuracy of the Corporation's estimate of the burden of the proposed collection of information, including the validity of the methodology and assumptions used;

• Propose ways to enhance the quality, utility and clarity of the information to be collected; and

• Propose ways to minimize the burden of the collection of information on those who are to respond, including the use of appropriate automated, electronic, mechanical, or other technological collection techniques or other forms of information technology, e.g., permitting electronic submissions of responses.

SUPPLEMENTARY INFORMATION:

Background

The Corporation has the responsibility to evaluate the effectiveness of its program. The Corporation's major initiative is AmeriCorps, the national service program funded at $360 million annually. While the primary emphasis of AmeriCorps is on providing services to communities and other beneficiaries, of key importance is participant development. AmeriCorps includes the State and National program and the National Civilian Community Corps (NCCC) program. The objectives of this study are to describe the changes in those outcomes over time; to identify factors explaining variation in outcomes at different stages of time; and to identify relationships between selected program features and member outcomes. Outcome domains will include civic engagement, educational skill aspiration and achievements, employment skill aspiration and achievements, and life skills.

The Longitudinal Study of AmeriCorps Member Outcomes is designed to assess the effectiveness of AmeriCorps programs in meeting these objectives—member development outcomes. Previously, the Corporation received OMB approval (OMB #3045-0060, expires September 30, 2002 and #3045-0070, expires September 31, 2003) to launch three rounds of surveys of AmeriCorps members and their counterparts in comparison groups.

Current Action

The Corporation seeks OMB approval to continue to study the impact of AmeriCorps*State and National and AmeriCorps*NCCC. This is a request to add another round of data collection to the study. The purpose of this additional round of data collection is to supplement data collected at baseline and post-program and collect additional information about participation in service prior to AmeriCorps, and the decision-making process concerning enrolling or not enrolling in AmeriCorps. In addition, the survey will collect details about the AmeriCorps experience of members, and employment and educational experiences of individuals in the comparison group in the year after they considered joining, but did not actually join AmeriCorps. Analysis of baseline data collected in the initial round of surveys raised questions about participants' motivations about, and previous involvement in, community service. Data collected in the supplemental survey will allow us to address those concerns.

Type of Review: Revision of a currently approved collection.

Agency: Corporation for National and Community Service.

Title: The Longitudinal Research on Member Outcomes.

OMB Number: #3045-0070.

Agency Number: None.

Affected Public: AmeriCorps members, comparison group individuals.

Total Respondents: 3,337 (1,786 AmeriCorps members; 1,551 Comparison group members).

Frequency: One time.

Average Time Per Response: 45 minutes.

Estimated Total Burden Hours: 2,392 hours.

Total Burden Cost (capital/startup): None.

Total Burden Cost (operating/maintenance): None.

Dated: May 10, 2002.
David A. Reingold,
Director, Department of Research and Policy Development.

[FR Doc. 02-12311 Filed 5-15-02; 8:45 am]

BILLING CODE 6050-$$-P